EXPORT-IMPORT BANK

[Public Notice 44]

Agency Information Collection Activities; Proposed Collection; Comment Request

AGENCY: Export-Import Bank of the United States.

ACTION: Notice and request for comments.

SUMMARY: The Export-Import bank as a part of its continuing effort to reduce paperwork and respondent burden, invites the general public and other Federal agencies to comment on the proposed information collection, as required by the Paperwork Reduction Act of 1995.

DATES: Written comments should be received on or before June 30, 2001 to be assured of consideration.

ADDRESSES: Direct all written comments and request for additional information to Carlista Robinson, 811 Vermont Avenue, NW., Room 764, Washington, DC 20571, (202) 565-3351.

SUPPLEMENTARY INFORMATION:

Title & Form Number: Ex-Im Bank Letter of Interest Application form—EIB Form 95-9.

OMB Number: 3048-0005.

Type of Review: Reinstatement, without change, of a previously approved collection.

Need and Use: The information requested enables the applicant to provide Ex-Im Bank with the information necessary to determine eligibility for an indicative offer of support under the loan and guarantee programs.

Affected Public: Business or other for-profit.

Respondents: Entities involved in the provision of financing or arranging of financing for foreign buyers of U.S. exports.

Estimated Annual Respondents: 960.

Estimated Time Per Respondent: 20 minutes.

Estimated Annual Burden: 300.

Frequency of Response: When applying for a Letter of Interest.

Dated: April 26, 2001.
Carlista D. Robinson,
Agency Clearance Officer.

BILLING CODE 6690-01-M

[FR Doc. 01-10957 Filed 5-1-01; 8:45 am]

BILLING CODE 6690-01-C